DEPARTMENT OF ENERGY

Federal Energy Regulatory Commission

[Docket Nos. OA97-111-001, OA97-112-001 and OA97-124-001]

Cinergy Services, Inc.; Notice of Filing

April 14, 2000.

Take notice that on March 20, 2000, Cinergy Services, Inc. (Cinergy), as agent for and on behalf of the Cinergy Operating Companies, PSI Energy, Inc. and The Cincinnati Gas & Electric Company, submitted its compliance filing pursuant to the Commission's February 29, 2000 Order in Allegheny Power Service Company, et al., 90 FERC ¶ 61,224.

Cinergy states that it has served a copy of its filing upon Hoosier Energy Rural Electric Cooperative, Inc., Southern Indiana Gas and Electric Company and Indiana Municipal Power Agency.

Any person desiring to be heard or to protest said filing should file a motion to intervene or protest with the Federal Energy Regulatory Commission, 888 First Street, N.E., Washington, D.C. 20426, in accordance with Rules 211 and 214 of the Commission's Rules of Practice and Procedure (18 CFR 385.211 and 385.214). All such motions and protests should be filed on or before April 24, 1999. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-9947 Filed 4-20-00; 8:45 am]

BILLING CODE 6717-01-M